ENVIRONMENTAL PROTECTION AGENCY

40 CFR Part 52

[CA 264-0354b; FRL-7234-6]

Revisions to the California State Implementation Plan, Imperial County Air Pollution Control District

AGENCY: Environmental Protection Agency (EPA).

ACTION: Proposed rule.

SUMMARY: EPA is proposing to approve revisions to the Imperial County Air Pollution Control District (ICAPCD) portion of the California State Implementation Plan (SIP). These revisions concern definitions. We are proposing to approve a local rule that addresses definitions under the Clean Air Act as amended in 1990 (CAA or the Act).

DATES: Any comments on this proposal must arrive by August 7, 2002.

ADDRESSES: Mail comments to Andy Steckel, Rulemaking Office Chief (AIR-4), U.S. Environmental Protection Agency, Region IX, 75 Hawthorne Street, San Francisco, CA 94105-3901.

You can inspect copies of the submitted SIP revisions and EPA's technical support document (TSD) at our Region IX office during normal business hours. You may also see copies of the submitted SIP revisions at the following locations:

California Air Resources Board, Stationary Source Division, Rule Evaluation Section, 1001 “I” Street, Sacramento, CA 95814

Imperial County Air Pollution Control District, 150 South 9th Street, El Centro, CA 92243-2801

FOR FURTHER INFORMATION CONTACT: Cynthia G. Allen, Rulemaking Office (Air-4), U.S. Environmental Protection Agency, Region IX, (415) 947-4120.

SUPPLEMENTARY INFORMATION: This proposal addresses the following local rule: ICAPCD 101. In the Rules and Regulations section of this Federal Register, we are approving this local rule in a direct final action without prior proposal because we believe these SIP revisions are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: May 24, 2002.
Keith Takata,
Acting Regional Administrator, Region IX.

[FR Doc. 02-16865 Filed 7-5-02; 8:45 am]

BILLING CODE 6560-50-P